DEPARTMENT OF COMMERCE

National Oceanic and Atmospheric Administration

RIN 0648-XE389

Nominations for the General Advisory Committee and the Scientific Advisory Subcommittee to the United States Delegation to the Inter-American Tropical Tuna Commission

AGENCY: National Marine Fisheries Service (NMFS), National Oceanic and Atmospheric Administration (NOAA), Commerce.

ACTION: Notice; request for nominations.

SUMMARY: NMFS, on behalf of the Secretary of Commerce, is seeking nominations for the General Advisory Committee to the U.S. delegation to the Inter-American Tropical Tuna Commission (IATTC or Commission), as well as to a Scientific Advisory Subcommittee of the General Advisory Committee. The purpose of the General Advisory Committee and its Scientific Advisory Subcommittee is to provide public input and advice to the United States delegation to the IATTC in the formulation of U.S. policy and positions at meetings of the IATTC and its subsidiary bodies. The Scientific Advisory Subcommittee shall also function as the National Scientific Advisory Committee provided for in the Agreement on the International Dolphin Conservation Program (AIDCP).

DATES: Nominations must be received no later than February 19, 2016.

ADDRESSES: Nominations should be directed to William W. Stelle, Jr., Regional Administrator, NMFS West Coast Region, and may be submitted by any of the following means:

• Email: RegionalAdministrator.WCRHMS@noaa.gov. Include in the subject line the following document identifier: “General Advisory Committee and Scientific Advisory Subcommittee nominations”

• Mail: Rachael Wadsworth, NMFS West Coast Region Long Beach Office, 501 W. Ocean Blvd., Suite 4200, Long Beach, CA 90802.

FOR FURTHER INFORMATION CONTACT: Rachael Wadsworth, NMFS West Coast Region; email: rachael.wadsworth@noaa.gov; telephone: 562-980-4036.

SUPPLEMENTARY INFORMATION:

General Advisory Committee

The Tuna Conventions Act (16 U.S.C. 951 et seq.), as amended on November 5, 2015, by title II of Public Law 114-81, provides that the Secretary of Commerce, in consultation with the Secretary of State, shall appoint a “General Advisory Committee” to advise the U.S. delegation to the IATTC. The General Advisory Committee shall be composed of no more than 25 individuals who shall be representative of the various groups concerned with the fisheries covered by the IATTC, including non-governmental conservation organizations, providing an equitable balance among such groups to the maximum extent practicable. Members of the General Advisory Committee shall be invited to attend all non-executive meetings of the U.S. delegation to the IATTC and at such meetings shall be given the opportunity to examine and be heard on all proposed programs of investigation, reports, recommendations, and regulations of the Commission.

The Chair of the Pacific Fishery Management Council's (Pacific Council's) Advisory Subpanel for Highly Migratory Fisheries and the Chair of the Western Pacific Fishery Management Council's (Western Pacific Council's) Advisory Committee shall be ex-officio members of the General Advisory Committee by virtue of their positions advising those Councils. The General Advisory Committee will be eligible to participate as members of the United States delegation to the Commission and its working groups to the extent the Commission rules and space for delegations allow. Additionally, NMFS may appoint the Executive Directors of the Pacific and Western Pacific Councils to serve on the General Advisory Committee.

At its next meeting, the General Advisory Committee is expected to determine its organization and prescribe its practices and procedures for carrying out its functions under the Tuna Conventions Act, the Magnuson-Stevens Fishery Conservation and Management Act (16 U.S.C. 1801 et seq.), the 1949 Convention for the Establishment of an Inter-American Tropical Tuna Commission, and the Convention for the Strengthening of the IATTC Established by the 1949 Convention between the United States of America and the Republic of Costa Rica (Antigua Convention). Meetings of the General Advisory Committee, except when in executive session, shall be open to the public, and prior notice of meetings shall be made public in timely fashion. In accordance with Public Law 114-81, the General Advisory Committee shall not be subject to the Federal Advisory Committee Act (5 U.S.C. App.).

Individuals appointed to serve as a member of the General Advisory Committee shall serve without pay. While away from their homes or regular places of business to attend meetings of the General Advisory Committee, they shall be allowed travel expenses, including per diem in lieu of subsistence, in the same manner as persons employed intermittently by the Federal Government are allowed expenses under 5 U.S.C. 5703. In addition, individuals appointed to serve as a member of the General Advisory Committee shall not be considered Federal employees except for the purposes of injury compensation or tort.

Scientific Advisory Subcommittee

The Tuna Conventions Act, as amended, also provides that the Secretary of Commerce, in consultation with the Secretary of State, shall appoint individuals as members of the subcommittee of the General Advisory Committee, referred to here as the “Scientific Advisory Subcommittee.” The Scientific Advisory Subcommittee shall be composed of no fewer than 5 or no more than 15 qualified scientists with balanced representation from the public and private sectors, including non-governmental conservation organizations.

The Scientific Advisory Subcommittee will be expected to determine its own organization and prescribe its practices and procedures for carrying out its functions under the Tuna Conventions Act, the Magnuson-Stevens Fishery Conservation and Management Act (16 U.S.C. 1801 et seq.), the 1949 Convention for the Establishment of an Inter-American Tropical Tuna Commission, the Antigua Convention, and the AIDCP.

National Scientific Advisory Committee

The Scientific Advisory Subcommittee shall also function as the National Scientific Advisory Committee established pursuant to Article IX of the AIDCP. In this regard, the Scientific Advisory Subcommittee shall perform the functions of the National Scientific Advisory Committee as specified in Annex VI of the AIDCP which include, but are not limited to: (1) Receiving and reviewing relevant data, including data provided to NMFS by IATTC staff; (2) advising and recommending measures and actions to the U.S. Government that should be undertaken to conserve and manage stocks of living marine resources in the eastern Pacific Ocean; (3) making recommendations to the U.S. Government regarding research needs related to the eastern Pacific Ocean tuna purse seine fishery; (4) promoting the regular and timely full exchange of data among the AIDCP Parties on a variety of matters related to the implementation of the AIDCP; and (5) consulting with other experts, as necessary, in order to achieve the objectives of the AIDCP.

Members of the Scientific Advisory Subcommittee/National Scientific Advisory Committee shall receive no compensation for their service and members will not be compensated for travel or other expenses associated with their participation.

General Provisions

Each appointed member of the General Advisory Committee shall be appointed for a term of 3 years and may be reappointed.

The Secretary of Commerce and the Secretary of State shall provide the General Advisory Committee with relevant information concerning fisheries and international fishery agreements. The Secretary of Commerce shall provide to the General Advisory Committee such administrative and technical support services that are necessary for its effective functioning in a timely manner.

Procedures for Submitting Applications/Nominations

Applications/nominations for the General Advisory Committee and the Scientific Advisory Subcommittee/National Scientific Advisory Committee should be submitted to NMFS West Coast Region (See ADDRESSES). This request for nominations is for both first time nominees and previous members. Self-nominations are acceptable. Nominations should include the information listed below:

(1) Full name, address (home and business, if different), telephone, and email address of applicant (i.e., for self-nomination) or nominee;

(2) Specify whether applying or nominating for the General Advisory Committee or the Scientific Advisory Committee/National Scientific Advisory Committee (applicants may specify both);

(3) Applicant's or nominee's organization(s) or professional affiliation(s) serving as the basis for the application/nomination;

(4) Background statement describing the applicant's or nominee's qualifications and experience, especially as related to fisheries for tuna and tuna-like species in the eastern Pacific Ocean or other factors relevant to the implementation of the Convention Establishing the IATTC or the AIDCP; and

(5) A written statement from the applicant or nominee of intent to participate actively and in good faith in the meetings and activities of either the General Advisory Committee or the Scientific Advisory Subcommittee/National Scientific Advisory Committee, or both.

Applicants or nominees who submitted material in response to the Federal Register Notice published by the Department of State on March 25, 2013 (78 FR 17993), or prior, should resubmit their applications pursuant to this notice.

Authority: 16 U.S.C. 951 et seq.

Dated: January 13, 2016.
Emily H. Menashes,
Acting Director, Office of Sustainable Fisheries, National Marine Fisheries Service.

[FR Doc. 2016-00906 Filed 1-19-16; 8:45 am]

BILLING CODE 3510-22-P